DEPARTMENT OF ENERGY

Federal Energy Regulatory Commission

Combined Notice of Filings #1

Take notice that the Commission received the following electric corporate filings:

Docket Numbers: EC12-87-000.

Applicants: Hot Spring Power Company, LLC.

Description: Application of Hot Spring Power Company, LLC for Authorization under Section 203 of the Federal Power Act and Request for Confidential Treatment and Waivers.

Filed Date: 3/28/12.

Accession Number: 20120328-5176.

Comments Due: 5 p.m. ET 5/29/12.

Take notice that the Commission received the following electric rate filings:

Docket Numbers: ER12-1373-000.

Applicants: Motiva Enterprises LLC.

Description: Motiva Enterprises LLC Market-Based Rate Tariff to be effective 3/29/2012.

Filed Date: 3/28/12.

Accession Number: 20120328-5155.

Comments Due: 5 p.m. ET 4/18/12.

Docket Numbers: ER12-1374-000.

Applicants: New England Power Company.

Description: Construction Services Agreement with Western Massachusetts Electric Co. to be effective 12/21/2011.

Filed Date: 3/28/12.

Accession Number: 20120328-5158.

Comments Due: 5 p.m. ET 4/18/12.

Docket Numbers: ER12-1375-000.

Applicants: Westar Energy, Inc.

Description: KEPCo, Revisions to Attachment A—Delivery Points (4/1/12) to be effective 4/1/2012.

Filed Date: 3/28/12.

Accession Number: 20120328-5160.

Comments Due: 5 p.m. ET 4/18/12.

Docket Numbers: ER12-1376-000.

Applicants: Shell Chemical LP.

Description: Shell Chemical LP Market-Based Rate Tariff to be effective 3/29/2012.

Filed Date: 3/28/12.

Accession Number: 20120328-5161.

Comments Due: 5 p.m. ET 4/18/12.

Docket Numbers: ER12-1377-000.

Applicants: Westar Energy, Inc.

Description: The City of Wamego, Kansas Wholesale Power Sales Service to be effective 6/1/2012.

Filed Date: 3/28/12.

Accession Number: 20120328-5162.

Comments Due: 5 p.m. ET 4/18/12.

Docket Numbers: ER12-1378-000.

Applicants: Cleco Power LLC.

Description: Cleco Power 2012 Rate Case (Part 1 of 2) to be effective 6/1/2012.

Filed Date: 3/28/12.

Accession Number: 20120328-5163.

Comments Due: 5 p.m. ET 4/18/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 29, 2012.
Nathaniel J. Davis, Sr.,
Deputy Secretary.

[FR Doc. 2012-8301 Filed 4-5-12; 8:45 am]

BILLING CODE 6717-01-P